DEPARTMENT OF HEALTH AND HUMAN SERVICES

Centers for Disease Control and Prevention

Disease, Disability, and Injury Prevention and Control Special Emphasis Panel (SEP): Health Promotion and Disease Prevention Research Centers: Special Interest Project Competitive Supplements (Panels 1-4), Request for Applications (RFA) DP07-002

In accordance with Section 10(a)(2) of the Federal Advisory Committee Act (Pub. L. 92-463), the Centers for Disease Control and Prevention (CDC) announces a meeting of the aforementioned Special Emphasis Panel.

Time and Date: 8:30 a.m.-5 p.m., June 19, 2007 (Closed).

Place: Doubletree Buckhead, 3342 Peachtree Road, NE., Atlanta, Georgia 30326.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of “Health Promotion and Disease Prevention Research Centers, Special Interest Project Competitive Supplements (Panels 1-4),” RFA DP07-002.

Contact Person for More Information: Juliana Cyril, M.P.H., PhD., Associate Director for Policy and Peer Review, Office of the Chief Science Officer, CDC, 1600 Clifton Road NE., Mailstop D74, Atlanta, GA 30333, Telephone 404-639-4939.

The Director, Management Analysis and Services Office, has been delegated the authority to sign Federal Register notices pertaining to announcements of meetings and other committee management activities, for both CDC and the Agency for Toxic Substances and Disease Registry.

Dated: April 13, 2007.
Elaine L. Baker,
Acting Director, Management Analysis and Services Office, Centers for Disease Control and Prevention.

[FR Doc. E7-7502 Filed 4-19-07; 8:45 am]

BILLING CODE 4163-18-P